DEPARTMENT OF THE TREASURY

Internal Revenue Service

Open Meeting of the Taxpayer Advocacy Panel's Tax Forms and Publications Project Committee

AGENCY: Internal Revenue Service (IRS), Treasury.

ACTION: Notice of meeting.

SUMMARY: An open meeting of the Taxpayer Advocacy Panel's Tax Forms and Publications Project Committee will be conducted. The Taxpayer Advocacy Panel is soliciting public comments, ideas, and suggestions to improve customer service at the Internal Revenue Service. This meeting will be held as a virtual video conference via the Microsoft Teams platform.

DATES: The meeting will be held on Tuesday, July 8, 2025, at 2:00 p.m. Eastern Time.

FOR FURTHER INFORMATION CONTACT: Ann Tabat at 1-888-912-1227 or (602) 636-9143, or by email at taxpayer.advocacy.panel@irs.gov.

SUPPLEMENTARY INFORMATION: Notice is hereby given pursuant to Section 10(a)(2) of the Federal Advisory Committee Act, 5 U.S.C. app. (1988), that an open meeting of the Taxpayer Advocacy Panel Tax Forms and Publications Project Committee will be held on Tuesday, July 8, 2025, at 2:00 p.m. Eastern Time.

The public is invited to attend the meeting virtually, or by phone, and may provide oral comments or submit written statements for consideration. Due to meeting structure and time limitations, advance registration is required to attend or make public comments during the meeting. To register and receive meeting access information, please contact Ann Tabat at the contact information above no later than Thursday, July 3, 2025.

Meeting materials, including the agenda and any handouts, will be made available prior to the meeting at www.improveirs.org.

The agenda will include a committee discussion of new and old referrals and other activities related to the new TAP year.

Dated: June 2, 2025.
Kevin Brown,
Acting Director, Taxpayer Advocacy Panel.

[FR Doc. 2025-10560 Filed 6-10-25; 8:45 am]

BILLING CODE 4830-01-P